DEPARTMENT OF ENERGY

Federal Energy Regulatory Commission

[Docket Nos. CP03-41-000 and CP03-43-000]

Dominion Transmission, Inc.; Texas Eastern Transmission, LP; Notice of Filings

January 30, 2003.

Take notice that on January 24, 2003, Dominion Transmission, Inc. (Dominion), Docket No. CP03-41-000, 445 West Main Street, Clarksburg, West Virginia 26301; and Texas Eastern Transmission, LP (Texas Eastern), Docket No. CP03-43-000, 5400 Westheimer Court, Houston, Texas 77056-5310, filed with the Federal Energy Regulatory Commission (Commission) abbreviated applications for certificate of public convenience and necessity pursuant to Section 7 of the Natural Gas Act and part 157 of the Commission's Rules and Regulations. Dominion requests authorization to lease, construct, own, operate, and maintain certain facilities in Pennsylvania, Virginia, and West Virginia; and to provide certain firm transportation and storage services. Texas Eastern requests authorization to construct, own, operate and maintain proposed facilities that will increase the firm transportation capacity on Texas Eastern's system by 223,000 dekatherms per day (Dth/d), and lease this incremental capacity to Dominion. The applications are on file with the Commission and open for public inspection. These filings are available for review at the Commission in the Public Reference Room or may be viewed on the Commission's Web site at http://www.ferc.gov using the “FERRIS” link. Enter the docket number excluding the last three digits in the docket number field to access the document. For assistance, please contact FERC Online Support at FERCOnlineSupport@ferc.gov or toll free at (866)208-3676, or for TTY, contact (202) 502-8659.

Dominion

Dominion requests authority to lease capacity of 223,000 Dth/d of firm transportation service from Texas Eastern on CRP pipeline system located in Pennsylvania, and 5.6 Bcf of firm storage service. In addition, Dominion proposes to construct and place in service the following compressor station additions, and new compressor stations:

• At a new compressor station, Mockingbird Hill, located in Wetzel County, West Virginia: installing a 5,000 hp gas-fired turbine;

• At the existing Crayne station, located in Green County, Pennsylvania: replacing the existing #1 unit, a 5,500 hp gas-fired turbine, with a 7,800 hp gas-fired turbine, and the existing #2 unit would be reconfigured from a 6,500 hp gas-fired turbine to a 7,800 hp gas-fired turbine;

• At the existing Chambersburg station, located in Franklin County, Pennsylvania: upgrading the 2 existing electric powered units from 4,000 hp to 4,600 hp, and installing 2 new 7,800 hp gas-fired turbines;

• At the existing Leesburg station, located in Loudoun County, Virginia: installing an additional 7,800 hp gas-fired turbine;

• At a new compressor station, Quantico station, located in Fauquier County, Virginia: installing a 6,000 hp gas-fired turbine; and

• Also installing non-jurisdictional facilities as associated appurtenant facilities with each compressor installation and conducting non-jurisdictional work associated with abandoned oil wells at its Fink-Kennedy/Lost Creek Storage Reservoir to insure the integrity of the reservoir.

The estimated cost of the proposed project is $83.0 million. Dominion will pay Texas Eastern a monthly Lease Payment of $1,085,341 for the leased capacity. Dominion proposes incrementally priced transportation services at rates that are designed to recover the costs of both Dominion's incremental transmission facilities and the capacity that is to be leased from Texas Eastern.

Dominion proposes to roll in the storage service costs at its next general Section 4 rate case, since incremental cost-based storage rates would be less than the existing storage rates. In addition to the transportation rate, a reservation-based compression charge is being proposed in order to recover the cost of the new Quantico compressor station.

Texas Eastern

In order to provide the 223,000 Dth/d of lease capacity to Dominion, Texas Eastern requests authorization to construct, install, own, operate, and maintain four new 36-inch diameter pipeline loops totaling approximately 34.64 miles. Texas Eastern proposes to replace certain segments of the existing 24-inch diameter pipeline, which is currently abandoned in place, with new 36-inch diameter pipeline. The new 36-inch diameter sections of pipeline looping will be constructed in the same location as the currently existing abandoned 24-inch diameter pipeline looping. Texas Eastern will remove the existing pipe and relay the 36-inch diameter pipe in the same right-of-way. In addition, Texas Eastern proposes to replace the existing aerodynamic assembly on the 11,000 HP electric drive compressor unit at the Uniontown (Station 21-A) Compressor station in Uniontown, Pennsylvania, to accommodate the increased throughput. The estimated cost of the proposed project is $82.855 million. This cost will be fully reimbursed by Dominion under the Lease Agreement with no subsidization by Texas Eastern's existing customers.

Any questions regarding the applications are to be directed to Sean R. Sleigh, Certificates Manager, Dominion Transmission, Inc., 445 West Main Street, Clarksburg, WV 26301, or Steven E. Tillman, General Manager, Regulatory Affairs, Texas Eastern Transmission, LP, P.O. Box 1642, Houston, Texas 77251-1642.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Motions to intervene, protests and comments may be filed electronically via the internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued. Comment Date: February 20, 2003.

Magalie R. Salas,
Secretary.

[FR Doc. 03-2874 Filed 2-5-03; 8:45 am]

BILLING CODE 6717-01-P